SMALL BUSINESS ADMINISTRATION

[Disaster Declaration # 10134]

Maine Disaster # ME-00003

AGENCY: U.S. Small Business Administration.

ACTION: Notice.

SUMMARY: This is a Notice of the Presidential declaration of a major disaster for Public Assistance Only for the State of Maine (FEMA—1591—DR), dated 06/29/2005.

Incident: Severe Storms, Flooding, Snow Melt, and Ice Jams.

Incident Period: 03/29/2005 through 05/03/2005.

Effective Date: 06/29/2005.

Physical Loan Application Deadline Date: 08/29/2005.

ADDRESSES: Submit completed loan applications to: U.S. Small Business Administration, Disaster Area Office 3, 14925 Kingsport Road Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 06/29/2005, applications for Private Non-Profit organizations that provide essential services of a governmental nature may file disaster loan applications at the address listed above or other locally announced locations.

The following areas have been determined to be adversely affected by the disaster:

Primary Counties: Androscoggin, Franklin, Hancock, Kennebec, Knox, Lincoln, Oxford, Piscataquis, Somerset, Waldo, and Washington.

The Interest Rates are:

Other (Including Non-Profit Organizations) With Credit Available Elsewhere 4.750.

Businesses and Non-Profit Organizations Without Credit Available Elsewhere 4.000.

The number assigned to this disaster for physical damage is 10134

(Catalog of Federal Domestic Assistance Number 59008)

Herbert L. Mitchell,
Associate Administrator for Disaster Assistance.

[FR Doc. 05-13753 Filed 7-12-05; 8:45 am]

BILLING CODE 8025-01-P